COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List previously furnished by nonprofit agencies employing persons who are blind or have other severe disabilities.

DATES: Effective Date: November 13, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 9/2/2016 (81 FR 60681-60683), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products:

Product Name(s)—NSN(s): 7930-01-436-7950—Phenolic Disinfectant

Mandatory Source(s) of Supply: Beacon Lighthouse, Inc., Wichita Falls, TX

Contracting Activities: U.S. Postal Service, Washington, DC, Washington, DC; Department of Veterans Affairs, General Services Administration, Fort Worth, TX.

Product Name(s)—NSN(s): 7520-00-255-7081—Clipboard, Arch, Brown, 9′ x 17″ 7520-00-191-1075—Clipboard, Arch, With Perforator, Brown, 9′ x 17″

Mandatory Source(s) of Supply: Industries of the Blind, Inc., Greensboro, NC

Contracting Activity: General Services Administration, New York, NY

Product Name(s)—NSN(s): 7520-01-424-4849—Marker, Permanent Ink (Colossal) (Black)

Mandatory Source(s) of Supply: Dallas Lighthouse for the Blind, Inc., Dallas, TX

Contracting Activity: General Services Administration, New York, NY

Product Name(s)—NSN(s): 8415-01-487-5148—Cap, Baseball, embroidered, Navy, Blue

Mandatory Source(s) of Supply: ReadyOne Industries, Inc., El Paso, TX

Contracting Activity: Defense Logistics Agency Troop Support

Services:

Service Type: Interior Landscaping/Copier Operation

Mandatory for: Department of Agriculture, Beltsville, MD

Mandatory Source(s) of Supply: Blind Industries & Services of Maryland, Baltimore, MD

Contracting Activity: Dept of Agriculture, Procurement Operations Division

Service Type: Mailing Service

Mandatory for: Department of Housing and Urban Development, Washington, DC

Mandatory Source(s) of Supply: Virginia Industries for the Blind, Charlottesville, VA

Contracting Activity: Dept of Housing and Urban Development

Service Type: ShadowBoarding Service

Mandatory for: Fleet and Industrial Supply Center, P.O. Box 97, Naval Air Station, Jacksonville, FL

Mandatory Source(s) of Supply: Mississippi Industries for the Blind, Jackson, MS

Contracting Activity: DOD/DEPARTMENT OF THE NAVY

Service Type: Order Processing Service

Mandatory for: GSA, Northeast Distribution Center: Federal Supply Service (3FS), Burlington, NJ

Mandatory Source(s) of Supply: Bestwork Industries for the Blind, Inc., Cherry Hill, NJ

Contracting Activity: GSA/FAS Tools Acquisition Division II

Service Type: Microfilming Tax Forms Service

Mandatory for: Internal Revenue Service, Cincinnati, OH

Mandatory Source(s) of Supply: Blind Industries & Services of Maryland, Baltimore, MD

Contracting Activity: Department of the Treasury

Service Type: Assembly Service

Mandatory for: U.S. Information Agency, 400 C Street SW., Washington, DC

Mandatory Source(s) of Supply: Virginia Industries for the Blind, Charlottesville, VA

Contracting Activity: Dept of State, Office of Acquisition Mgmt—MA

Service Type: Sponge Rubber Mattress Rehabilitation Service

Mandatory for: Requirements for GSA Region 3, Philadelphia, PA

Mandatory Source(s) of Supply: Virginia Industries for the Blind, Charlottesville, VA

Contracting Activity: DOD/DEPARTMENT OF THE NAVY

Service Type: Order Processing Service

Mandatory for: McGuire Air Force Base, McGuire AFB, NJ

Mandatory Source(s) of Supply: Bestwork Industries for the Blind, Inc., Cherry Hill, NJ

Contracting Activity: Dept of the Air Force, FA7014 AFDW PK

Service Type: Operation of Postal Service Center

Mandatory for: Seymour-Johnson Air Force Base, Seymour-Johnson AFB, NC

Mandatory Source(s) of Supply: Lions Industries for the Blind, Inc., Kinston, NC

Contracting Activity: Dept of the Air Force, FA7014 AFDW PK

Service Type: Janitorial/Custodial Service

Mandatory for: Defense Supply Center Columbus, 3990 East Broad Street, Columbus, OH

Contracting Activity: Defense Logistics Agency Land and Maritime

Service Type: Administrative/General Support Service

Mandatory for: GSA, Southwest Supply Center, 819 Taylor Street, Fort Worth, TX

Mandatory Source(s) of Supply: NewView Oklahoma, Inc., Oklahoma City, OK

Contracting Activity: General Services Administration, FPDS Agency Coordinator

Service Type: Release of Information Copying Service

Mandatory for: Veterans Affairs Medical Center, 421 North Main Street, Leeds, MA

Mandatory Source(s) of Supply: Massachusetts Commission for the Blind; Ferguson Industries for the Blind (Deleted), Malden, MA

Contracting Activity: Department of Veterans Affairs

Service Type: Administrative Support Service

Mandatory for: Federal Bureau of Prisons, Old North Carolina Highway 75, Butner, NC

Mandatory Source(s) of Supply: RLCB, Inc., Raleigh, NC

Contracting Activity: Federal Prison System, Terminal Island, FCI

Barry S. Lineback,
Director, Business Operations.

[FR Doc. 2016-24899 Filed 10-13-16; 8:45 am]

BILLING CODE 6353-01-P